ENVIRONMENTAL PROTECTION AGENCY

[FRL-8160-2]

Proposed Reissuance of the NPDES General Permit for Oil and Gas Exploration, Development and Production Facilities Located in State and Federal Waters in Cook Inlet, AK (AKG-31-5000)

AGENCY: Environmental Protection Agency (EPA).

ACTION: Proposed NPDES general permit reissuance—extension of the comment period.

SUMMARY: In response to numerous requests from the oil and gas industry, local governments, community groups, and Tribes, EPA hereby extends the comment period for an additional 30 days, from May 1, 2006 to May 31, 2006.

DATES: Comments must be received by May 31, 2006.

ADDRESSES: Comments should be sent to: Director, Office of Water and Watersheds, U.S. EPA, Region 10, 1200 Sixth Avenue, M/S OWW-130, Seattle, Washington 98101.

Comments may also be submitted via e-mail to the following address: shaw.hanh@epa.gov.

FOR FURTHER INFORMATION CONTACT: Ms. Hanh Shaw, U.S. EPA, Region 10, 1200 Sixth Avenue, M/S OWW-130, Seattle, Washington 98101. Telephone: (206) 553-0171. A copy of the Proposed Permit, the fact sheet that fully explains the proposal and a copy of EPA's Environmental Assessment (EA) and preliminary Finding of No Significant Impacts (FONSI), prepared pursuant to the National Environmental Policy Act (NEPA), may be obtained from Ms. Shaw. EPA's current administrative record on the proposal is available for examination at U.S. EPA, 1200 Sixth Avenue, Seattle, WA 98101. Additionally, a copy of the proposed permit, fact sheet, EA, preliminary FONSI, and this Federal Register Notice may be obtained on the Internet at: http://www.epa.gov/r10earth.

The documents are also available from the EPA Alaska Operations Office, Room 537, Federal Building, 222 West 7th Avenue, Anchorage, Alaska 99513. Please contact Ms. Dianne Soderlund at (907) 271-3425 for assistance.

SUPPLEMENTARY INFORMATION: The existing permit, NPDES Permit No. AKG-28-5000 (Existing Permit), was previously reissued on April 1, 1999 and expired on April 1, 2004 (64 FR 19156). The Existing Permit will remain in effect until a new permit is reissued for those discharges which were covered at the time of expiration. The Existing Permit authorizes discharges from oil and gas exploration, development, and production facilities located in and discharging to state and Federal waters in Cook Inlet north of a line extending between Cape Douglas (at 58°51′ latitude, 153°15′ longitude) on the west and Port Chatham (at 59°13′ latitude, 151°47′ longitude) on the east. EPA proposes to replace the Existing Permit with the proposed reissued permit (Proposed Permit), renumbered as AKG-31-5000.

The following changes are proposed to be made as a part of the permit reissuance:

1. EPA proposes to expand the existing coverage area to include the recent Minerals Management Service Lease Sales Nos. 191 and 199 and the State waters adjoining those lease areas.

2. EPA proposes to authorize discharges from oil and gas exploration facilities located within the expanded coverage area, including discharges associated with the use of synthetic-based drilling fluids.

3. EPA proposes to authorize discharges from new oil and gas development and production facilities located within the expanded coverage area, including sanitary waste water, domestic waste water, deck drainage, and miscellaneous discharges such as cooling water and boiler blowdown. These new development and production facilities, however, would not be authorized to discharge produced water, drilling fluids, or drill cuttings under the Proposed Permit.

4. EPA proposes to add new whole effluent toxicity and technology-based limits for discharges that contain treatment chemicals, such as biocides and corrosion inhibitors. These discharges include, but are not limited to, water flood waste water, cooling water, boiler blowdown, and desalination unit waste water.

5. EPA proposes to add a new water quality-based effluent limit for total residual chlorine.

6. EPA proposes to change the monitoring requirements found in the Existing Permit. The proposed changes would result in increased monitoring for facilities that violate the effluent limits, and reduced monitoring for facilities that demonstrate a good compliance record.

7. EPA proposes to expand the Existing Permit's baseline study to include all new facilities.

8. EPA proposes to include a new study that will involve collecting ambient data to determine the effect of large volume produced water discharges on Cook Inlet.

9. EPA proposes to expand the permit's discharge prohibition near protected areas, coastal marshes, and deltas.

10. EPA proposes to change the permit number from AKG-28-5000 to AKG-31-5000.

Dated: April 17, 2006.
Michael F. Gearheard,
Director, Office of Water and Watersheds.

[FR Doc. E6-5958 Filed 4-19-06; 8:45 am]

BILLING CODE 6560-50-P